COMMISSION ON CIVIL RIGHTS

Notice of Public Meetings of the New York Advisory Committee to the U.S. Commission on Civil Rights

AGENCY: U.S. Commission on Civil Rights.

ACTION: Notice of public meetings.

SUMMARY: Notice is hereby given, pursuant to the provisions of the rules and regulations of the U.S. Commission on Civil Rights (Commission) and the Federal Advisory Committee Act, that the New York Advisory Committee (Committee) to the U.S. Commission on Civil Rights will hold a series of standing public business meeting via Zoom. The purpose of these meetings is to discuss and vote, as appropriate, on matters related to the Committee's civil rights project.

DATES:

• Wednesday, July 2, 2025, from 11:00 a.m. to 12:00 p.m. Eastern Time

• Wednesday, August 6, 2025, from 11:00 a.m. to 12:00 p.m. Eastern Time

• Wednesday, September 3, 2025, from 11:00 a.m. to 12:00 p.m. Eastern Time

• Wednesday, October 1, 2025, from 11:00 a.m. to 12:00 p.m. Eastern Time

ADDRESSES: These meetings will be held via Zoom Webinar.

Registration Link (Audio/Visual): https://www.zoomgov.com/webinar/register/WN_nmKoIOFeQUS4Yzun99hhrw.

Join by Phone (Audio Only): (833) 435-1820 USA Toll-Free; Meeting ID: 161 065 0303

FOR FURTHER INFORMATION CONTACT: David Barreras, Designated Federal Officer, at dbarreras@usccr.gov or (202) 656-8937.

SUPPLEMENTARY INFORMATION: These Committee meetings are available to the public through the registration link above. Any interested members of the public may listen to any meeting. An open comment period will be provided to allow members of the public to make an oral comment as time allows. Per the Federal Advisory Committee Act, public minutes of the meeting will include a list of persons who are present at each meeting. If joining via phone, callers can expect to incur regular charges for calls they initiate over wireless lines, according to their wireless plan. The Commission will not refund any incurred charges. Callers will incur no charge for calls they initiate over land-line connections to the toll-free telephone number. Closed captioning will be available by selecting “CC” in the meeting platform. To request additional accommodations, please email svillanueva@usccr.gov at least 10 business days prior to each meeting.

Members of the public are entitled to submit written comments; the comments must be received within 30 days following each meeting. Written comments may be emailed to David Barreras at dbarreras@usccr.gov. Persons who desire additional information may contact the Regional Programs Coordination Unit at (202) 656-8937.

Records generated from this meeting may be inspected and reproduced at the Regional Programs Coordination Unit, as they become available, both before and after each meeting. Records of these meetings will be available via the file sharing website, https://bit.ly/4iU0Jhu. Persons interested in the work of this Committee are directed to the Commission's website, www.usccr.gov, or may contact the Regional Programs Coordination Unit at the above phone number.

Agenda

I. Welcome & Roll Call

II. Civil Rights Discussion

III. Public Comment

IV. Next Steps

V. Adjournment

Dated: June 13, 2025.
David Mussatt,
Supervisory Chief, Regional Programs Unit.

[FR Doc. 2025-11197 Filed 6-17-25; 8:45 am]

BILLING CODE 6335-01-P